DEPARTMENT OF STATE

22 CFR Part 62

[Public Notice: 12273]

RIN 1400-AF12

Exchange Visitor Program—Au Pairs; Extension of Comment Period

AGENCY: U.S. Department of State.

ACTION: Proposed rule; extension of comment period.

SUMMARY: On October 30, 2023, the U.S. Department of State (Department of State) published a Notice of Proposed Rulemaking for the Exchange Visitor Program—Au pair category. The Notice of Proposed Rulemaking provided a deadline for submitting comments by December 29, 2023. The Department of State received a request from the Alliance for International Exchange seeking an extension of the public comment period. The Department of State has reviewed this request and is announcing an extension of the public comment period for 30 days to allow public comments to be submitted on or before January 28, 2024.

DATES: The comment period for the Notice of Proposed Rulemaking published in the Federal Register on October 30, 2023 (88 FR 74071) is extended. Written comments must be received by January 28, 2024.

ADDRESSES: Interested parties may submit comments to the Department of State by any of the following methods:

• Visit the Regulations.gov website at: https://www.regulations.gov and search for the docket number DOS-2023-0025.

• Email: JExchanges@state.gov. You must include RIN 1400-AF12 in the subject line of your message.

• All comments should include the commenter's name, the organization the commenter represents, if applicable, and the commenter's email address. If the Department of State is unable to read your comment for any reason, and cannot contact you for clarification, the Department of State may not be able to consider your comment.

FOR FURTHER INFORMATION CONTACT: Karen Ward, Director, Office of Private Sector Exchange Designation, Bureau of Educational and Cultural Affairs, U.S. Department of State, SA-5, 2200 C Street NW, Washington, DC 20522-0505. Telephone: 202-733-7852. Email: DesignationAuPair@state.gov.

SUPPLEMENTARY INFORMATION: On October 30, 2023, the Department of State published a Notice of Proposed Rulemaking for the Au pair category (88 FR 74071) (RIN 1400-AF12; Document ID DOS-2023-0025-0001). On November 6, 2023, the Department received a request from the Alliance for International Exchange (the Alliance), whose members represent a large percentage of Department of State-designated sponsors in the Au pair category, for a minimum 30-day extension of the public comment period of the Notice of Proposed Rulemaking. The Alliance requested a comment period extension given the many designated sponsors, exchange community host families, participants, and groups interested in filing comments and the number of issues addressed in the rule.

The Department of State has reviewed the request and has decided to extend the deadline. Therefore, the public comment period for the Notice of Proposed Rulemaking will now close on January 28, 2024.

Karen Ward,
Director, Office of Private Sector Exchange Designation, Bureau of Educational and Cultural Affairs, U.S. Department of State.

[FR Doc. 2023-26292 Filed 11-29-23; 8:45 am]

BILLING CODE 4710-05-P